DEPARTMENT OF STATE

[Public Notice 10964]

Notice of a Public Meeting, in Preparation for an International Maritime Organization Meeting

The Department of State will conduct an open meeting at 1:00 p.m. on 21 January 2020, in Room 5Y23-21 of the Douglas A. Munro Coast Guard Headquarters Building at St. Elizabeth's, 2703 Martin Luther King Jr. Avenue SE, Washington, DC 20593. The primary purpose of the meeting is to prepare for the seventh session of the International Maritime Organization's (IMO) Sub-Committee on Ship Design and Construction to be held at the IMO headquarters, London, United Kingdom, February 3-7, 2020.

The agenda items to be considered include:

—Adoption of the agenda

—Decisions of other bodies

—Amendments to the explanatory notes to SOLAS chapter II-1, subdivision and damage stability regulations (resolution MSC.429(98))

—Safety measures for non-SOLAS ships operating in polar waters

—Finalization of second-generation intact stability criteria

—Mandatory instrument and/or provisions addressing safety standards for the carriage of more than 12 industrial personnel on board vessels engaged on international voyages

—Development of amendments to SOLAS chapter II-1 to include requirements for water level detectors on non-bulk carrier cargo ships with multiple cargo holds

—Mandatory application of the Performance standard for protective coatings for void spaces on bulk carriers and oil tankers

—Performance standards for protective coatings for void spaces on all types of ships

—Amendments to the 2011 ESP Code

—Unified interpretations to provisions of IMO safety, security and environment-related conventions

—Review of mandatory requirements in SOLAS, MARPOL, and Load Line Conventions and the IBC and IGC Codes regarding watertight doors on cargo ships

—Biennial status report and provisional agenda for SDC 8

—Election of Chairman and Vice-Chairman for 2021

—Any other business

—Report to the Maritime Safety Committee

Members of the public may attend this meeting up to the seating capacity of the room. Upon request to the meeting coordinator, members of the public may also participate via teleconference, up to the capacity of the teleconference phone line. To facilitate the building security process, and to request reasonable accommodation, those who plan to attend should contact the meeting coordinator, LT Dimitrios Wiener, by email at Dimitrios.N.Wiener@uscg.mil, or by phone at (202) 372-1414, or in writing at 2703 Martin Luther King Jr. Ave. SE, Stop 7509, Washington, DC 20593-7509 not later than January 14, 2019, seven days prior to the meeting. Requests made after January 14, 2020 might not be able to be accommodated. Please note that due to security considerations, two valid, government issued photo identifications must be presented to gain entrance to the Coast Guard Headquarters building. The building is accessible by taxi, public transportation, and privately owned conveyance (upon request). In the case of inclement weather where the U.S. Government is closed or delayed, a public meeting may be conducted virtually utilizing the teleconference phone line. For those who RSVP, the meeting coordinator will confirm whether the virtual public meeting will be utilized. Members of the public can find out whether the U.S. Government is delayed or closed by visiting www.opm.gov/status/.

Jeremy M. Greenwood,
Coast Guard Liaison Officer, Office of Ocean and Polar Affairs, Department of State.

[FR Doc. 2019-25787 Filed 11-26-19; 8:45 am]

BILLING CODE 4710-09-P